DEPARTMENT OF THE TREASURY

Alcohol and Tobacco Tax and Trade Bureau

27 CFR Part 9

[Docket No. TTB-2023-0004; T.D. TTB-191; Ref: Notice No. 223]

RIN 1513-AC97

Establishment of the Contra Costa Viticultural Area and Modification of the San Francisco Bay and Central Coast Viticultural Areas

AGENCY: Alcohol and Tobacco Tax and Trade Bureau, Treasury.

ACTION: Final rule; Treasury decision.

SUMMARY: The Alcohol and Tobacco Tax and Trade Bureau (TTB) establishes the approximately 167,146-acre “Contra Costa” American viticultural area in Contra Costa County, California. Additionally, TTB is expanding the boundaries of the established San Francisco Bay and Central Coast viticultural areas to avoid a partial overlap with the Contra Costa viticultural area and instead encompass the entire Contra Costa AVA. TTB designates viticultural areas to allow vintners to better describe the origin of their wines and to allow consumers to better identify wines they may purchase.

DATES: This final rule is effective April 15, 2024.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). In addition, the Secretary of the Treasury has delegated certain administration and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• If the proposed AVA is to be established within, or overlapping, an existing AVA, an explanation that both identifies the attributes of the proposed AVA that are consistent with the existing AVA and explains how the proposed AVA is sufficiently distinct from the existing AVA and therefore appropriate for separate recognition;

• The appropriate United States Geological Survey (USGS) map(s) showing the location of the proposed AVA, with the boundary of the proposed AVA clearly drawn thereon; and

• A detailed narrative description of the proposed AVA boundary based on USGS map markings.

Petition To Establish the Contra Costa AVA and To Expand the Boundaries of the San Francisco Bay and Central Coast AVAs

TTB received a petition on behalf of the Contra Costa Winegrowers Association proposing to establish the “Contra Costa” AVA and expand the boundaries of the established San Francisco Bay (27 CFR 9.157) and Central Coast (27 CFR 9.75) AVAs. The proposed Contra Costa AVA is within Contra Costa County, California. The proposed AVA covers approximately 167,146 acres and currently contains at least 60 commercial vineyards covering a total of approximately 1,700 acres, as well as at least 14 wineries. According to the petition, the distinguishing features of the proposed AVA are its topography and climate.

The proposed Contra Costa AVA consists of relatively flat terrain interrupted in places by rolling hills. All elevations within the proposed AVA are below 1,000 feet, and most elevations are below 100 feet. Over 71 percent of the slope angles within the proposed AVA are less than 5 percent, but along the western and southern boundary and in the ridgeline that runs north-south between Concord and Bay Point, slope angles can reach 30 percent. The petition states that cool, heavy marine air stays at lower elevations, leading to diurnal cooling that can cause differences in grape development, the timing of harvest, and sugar accumulation and acidity in the grapes when compared to the same varietals grown at higher elevations.

East of the proposed AVA, the terrain is generally flat as one moves into the California Delta and the San Joaquin Valley. To the south and west of the proposed AVA, the terrain becomes steeper, with slope angles generally exceeding 20 percent and commonly above 30 percent. Elevations to the west and south of the proposed AVA are also generally higher than within the proposed AVA, exceeding 1,300 feet in the region to the west and reaching 3,849 feet at the summit of Mt. Diablo to the south of the proposed AVA.

The petition also includes climate data in the form of growing degree day (GDD) accumulations ¹ and average annual precipitation amounts. Within the proposed Contra Costa AVA, annual GDD accumulations between 2014 and 2019 ranged from 3,008 to 4,275, indicating a generally warm climate. The petition states that the proposed AVA's climate is suitable for growing a variety of grapes, including Zinfandel, petite sirah, mourvedre, chardonnay, and cabernet sauvignon.

¹ See Albert J. Winkler et al., General Viticulture (Berkeley: University of California Press), pp. 61-64 (1974). In the Winkler climate classification system, annual heat accumulation during the growing season, measured in annual GDDs, defines climatic regions. One GDD accumulates for each degree Fahrenheit that a day's mean temperature is above 50 degrees F, the minimum temperature required for grapevine growth.

To the northeast of the proposed AVA, at Jersey Island, GDD accumulations from 2014 to 2019 were similar to those found in the proposed AVA, but the petitioner chose to exclude this region from the proposed AVA because of its mucky soils that are unlikely to support viticulture. To the south, in Walnut Creek, GDD accumulations were also similar to those within the proposed AVA, although the petitioner excluded this region from the proposed AVA because it is a largely residential area that is not suited for commercial viticulture. Farther south, in Byron, GDD accumulations were significantly higher than those within the proposed AVA. To the east, within the San Joaquin Valley, GDD accumulations were generally warmer than within the proposed AVA, as the marine influence decreases as one moves farther inland. West of the proposed AVA, as one moves closer to San Francisco Bay and the Pacific Ocean, GDD accumulations were lower than within the proposed AVA.

Within the proposed Contra Costa AVA, annual precipitation amounts from 2013 to 2018 ranged from a low of 232 millimeters (mm) to a high of 565 mm. During the same time period, annual precipitation amounts to the west and southwest of the proposed AVA were generally higher, ranging from a low of 374 mm to a high of 1,712 mm. Although the petition included precipitation data for regions to the northeast, east, and southeast of the proposed AVA, TTB excluded the data from the proposed rule document because the data was collected from a period of two years or less and therefore TTB was unable to determine whether precipitation was a distinguishing feature of the proposed AVA in relation to those regions.

Modification of the San Francisco Bay AVA Boundary

The San Francisco Bay AVA was established by T.D. ATF-407 on January 20, 1999 (64 FR 3015). T.D. ATF-407 describes the distinguishing feature of the San Francisco Bay AVA as “a marine climate which is heavily influenced by the proximity of the San Francisco Bay and the Pacific Ocean.” T.D. ATF-407 also notes that the eastern boundary of the AVA was chosen, in part, as a way of separating the AVA from the drier, warmer inland region of the Central Valley, which lacks a strong marine influence. Only the western portion of the proposed Contra Costa AVA lies within the existing San Francisco Bay AVA. To eliminate the partial overlap, the petitioner also proposed expanding the boundary of the San Francisco Bay AVA to encompass the entire Contra Costa AVA. The proposed expansion would increase the size of the San Francisco Bay AVA by approximately 109,955 acres. The proposed Contra Costa AVA shares some of the characteristics of the larger established AVA. For example, similar to other locations in the San Francisco Bay AVA, information provided in the petition to establish the Contra Costa AVA showed that the proposed AVA is affected by cool, moist air from the Pacific Ocean and the San Francisco Bay. The proposed AVA is also generally cooler and wetter than the inland region to the east. However, the proposed Contra Costa AVA has some characteristics that distinguish it from the larger San Francisco Bay AVA. For instance, although the proposed Contra Costa AVA is influenced by marine air from the San Francisco Bay, the proposed AVA is not adjacent to San Francisco Bay, the air travelling through Suisun Bay instead. Additionally, while T.D. ATF-407 describes the San Francisco Bay AVA as having a cool Mediterranean climate classification, the proposed Contra Costa AVA also includes regions with a warm Mediterranean climate classification.

Modification of the Central Coast AVA Boundary

The petition also proposes to expand the boundary of the established Central Coast AVA. The Central Coast AVA was established by T.D. ATF-216 on October 24, 1985 (50 FR 43128). T.D. ATF-216 describes the Central Coast AVA as a region between the Pacific Ocean and the Coast Ranges of California. The Central Coast AVA has a climate that is greatly affected by the marine influence, with the region to the east of the AVA having a more arid climate.

Only the western portion of the proposed Contra Costa AVA lies within the existing Central Coast AVA. To eliminate the partial overlap, the petitioner also proposed modifying the boundary of the Central Coast AVA to encompass the entire Contra Costa AVA. The proposed modification would increase the size of the Central Coast AVA by approximately 109,955 acres. Information provided in the petition to establish the Contra Costa AVA showed that the proposed Contra Costa AVA shares some of the characteristics of the larger established AVA. For example, similar to other locations in the Central Coast AVA, the proposed AVA is affected by cool, moist air from the Pacific Ocean, which enters the region from San Francisco Bay via Suisun Bay. The proposed AVA is also generally cooler and wetter than the region to the east. However, the proposed Contra Costa AVA has some characteristics that distinguish it from the larger Central Coast AVA. For instance, being a smaller region, the proposed AVA has less topographic variety than the Central Coast AVA. Additionally, being adjacent to the shoreline of Suisun Bay, the proposed AVA is more directly exposed to cool marine air than other regions of the Central Coast AVA, such as the Paso Robles AVA (27 CFR 9.84), which is farther inland and, according to T.D. ATF-216, receives its marine air via the Salinas River, which empties into Monterey Bay.

Notice of Proposed Rulemaking and Comments Received

TTB published Notice No. 223 in the Federal Register on March 29, 2023 (88 FR 18471), proposing to establish the Contra Costa AVA and expand the boundaries of the San Francisco Bay and Central Coast AVAs. In the notice, TTB summarized the evidence from the petition regarding the name, boundary, and distinguishing features for the proposed viticultural area. The notice also compared the distinguishing features of the proposed viticultural area to the surrounding areas. For a description of the evidence relating to the name, boundary, and distinguishing features of the proposed viticultural area, and for a comparison of the distinguishing features of the proposed viticultural area to the surrounding areas, see Notice No. 223.

In Notice No. 223, TTB solicited comments on the accuracy of the name, boundary, distinguishing features, and other required information submitted in support of the petition. In addition, TTB solicited comments on the proposed modifications of the established Central Coast and San Francisco Bay AVAs and whether the evidence presented in the proposed Contra Costa AVA petition sufficiently supported the modifications. The comment period for Notice No. 223 closed on May 30, 2023. In response to Notice No. 223, TTB received seven comments. Commenters include local wine industry members, the Contra Costa Winegrowers Association, the Downtown Brentwood Coalition, the mayor of the city of Brentwood, and the original petitioner. All seven comments support the establishment of the proposed Contra Costa AVA. None of the comments specifically addressed the proposed expansion of the San Francisco Bay or Central Coast AVAs.

Additionally, the comment from the petitioner (comment 1) clarified that Viano Vineyards is within both the proposed Contra Costa AVA and the unmodified Central Coast AVA. The petitioner states that TTB's description of Viano Vineyards on page 18476 of the proposed rule document made it seem as if the vineyard was not within the unmodified boundary of the Central Coast AVA. TTB agrees with the commenter that Viano Vineyards is within both the proposed Contra Costa AVA and the unmodified Central Coast AVA boundary. Comment 2 also noted that the second page of Exhibit I to the petition, which is marked as a list of members of the Contra Costa Winegrowers Association, includes persons who are members of the Lamorinda AVA association, not the Contra Costa Winegrowers Association. Exhibit I is not a TTB document, but TTB notes that winegrowers associations may accept members from neighboring regions outside of the particular AVA, and that members listed in the exhibit may be members of both associations. Because TTB did not receive any additional clarification from the petitioner regarding this exhibit, TTB is not amending the exhibit in the docket.

TTB Determination

After careful review of the petition and of the comments received in response to Notice No. 223, TTB finds that the evidence provided by the petitioner supports the establishment of the approximately 167,146-acre Contra Costa AVA and the expansion of the boundaries of the San Francisco Bay and Central Coast AVAs. Accordingly, under the authority of the FAA Act, section 1111(d) of the Homeland Security Act of 2002, and parts 4 and 9 of the TTB regulations, TTB establishes the “Contra Costa” AVA in Contra Costa County, California.

Furthermore, TTB expands the boundaries of the San Francisco Bay and Central Coast AVAs to entirely encompass the Contra Costa AVA, after finding that the evidence provided by the petitioner shows that the features of the expansion areas described in Notice No. 223 are consistent with the features of the established AVAs. These changes are effective April 15, 2024.

Boundary Description

See the narrative boundary description of the Contra Costa AVA and the expanded boundaries of the San Francisco Bay and Central Coast AVAs in the regulatory text published at the end of this final rule.

Maps

The petitioner provided the required maps, and they are listed below in the regulatory text. The Contra Costa AVA boundary and the expanded San Francisco Bay and Central Coast AVA boundaries may also be viewed on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

With the establishment of the Contra Costa AVA, its name, “Contra Costa,” will be recognized as a name of viticultural significance under § 4.39(i)(3) of the TTB regulations (27 CFR 4.39(i)(3)). The text of the regulations clarifies this point. Consequently, wine bottlers using the name “Contra Costa” in a brand name, including a trademark, or in another label reference to the origin of the wine, will have to ensure that the product is eligible to use the AVA name as an appellation of origin. The establishment of the AVA will not affect the use of “Contra Costa County” as a county appellation of origin on wine labels.

The establishment of the Contra Costa AVA will allow vintners to use “Contra Costa” as an AVA appellation of origin for wines made primarily from grapes grown within the Contra Costa AVA if the wines meet the eligibility requirements for the appellation. The expansion of the Central Coast and San Francisco Bay AVAs will also allow vintners to use “Central Coast,” “San Francisco Bay,” or both, as appellations of origin for wines made primarily from grapes grown anywhere in the Contra Costa AVA if the wines meet the eligibility requirements for the appellation.

Bottlers who wish to label their wines with “Contra Costa” as an AVA appellation of origin must obtain a new Certificate of Label Approval (COLA) for the label, even if the currently approved label already contains another AVA appellation of origin. Please do not submit COLA requests to TTB before the effective date shown in the Dates section of this document, or your request will be rejected.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this final rule is not a significant regulatory action as defined by Executive Order 12866, as amended. Therefore, no regulatory assessment is required.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

2. Amend § 9.75 by:

a. Removing the word “and” at the end of paragraph (b)(42);

b. Removing the “.” at the end of paragraph (b)(43) and adding a “;” in its place;

c. Adding paragraphs (b)(44) through (55);

d. Revising paragraphs (c)(4) through (c)(6);

e. Redesignating paragraphs (c)(7) through (c)(43) as paragraphs (c)(23) through (c)(59); and

f. Adding new paragraphs (c)(7) through (c)(22).

The revisions and additions read as follows:

§ 9.75 Central Coast.

* * * * *

(b) * * *

(44) Benicia, California, scale 1:24,000, dated 2018;

(45) Vine Hill, California, scale 1:24,000, dated 2018;

(46) Honker Bay, California, scale 1:24,000, dated 2018;

(47) Antioch North, California, scale 1:24,000, dated 2018;

(48) Jersey Island, California, scale 1:24,000, dated 2018;

(49) Bouldin Island, California, scale 1:24,000, dated 2018;

(50) Woodward Island, California, scale 1:24,000, dated 2018;

(51) Clifton Court Forebay, California, scale 1:24,000, dated 2018;

(52) Byron Hot Springs, California, scale 1:24,000, dated 2018;

(53) Tassajara, California, scale 1:24,000, dated 2018;

(54) Antioch South, California, scale 1:24,000, dated 2018; and

(55) Clayton, California, scale 1:24,000, dated 2018.

(c) * * *

(4) From this point, the boundary proceeds east along the shoreline of Alameda County and Contra Costa County across the Richmond, San Quentin, Mare Island, Benicia (2018 edition), Vine Hill (2018 edition), Honker Bay (2018 edition), and Antioch North maps and onto the Jersey Island map to the intersection of the shoreline with Bethel Island Road.

(5) Proceed southeast in a straight line 0.7 mile to the intersection of Wells Road and Sandmound Road.

(6) Proceed northeast in a straight line 2.7 miles, crossing onto the Bouldin Island map, to the northernmost point of Holland Tract Road.

(7) Proceed south 1.9 miles along Holland Tract Road, crossing onto the Woodward Island map, to the road's intersection with the 10-foot elevation contour.

(8) Proceed south-southeast in a straight line 4.1 miles to the intersection of Orwood Road and the Mokelumne Aqueduct.

(9) Proceed south-southwest 5.5 miles, crossing onto the Clifton Court Forebay map, to the stream gauging station on Italian Slough, just west of Widdows Island and the shared Contra Costa-San Joaquin County line.

(10) Proceed due west in a straight line to the western shore of Italian Slough, then proceed southwesterly along the shore of Italian Slough to its confluence with Brushy Creek.

(11) Proceed westerly along Brushy Creek, crossing onto the Byron Hot Springs (2018 edition) map and continuing southwesterly along the creek to its intersection with Vasco Road.

(12) Proceed northwest in a straight line 4.3 miles to the intersection of Kellogg Creek and Walnut Boulevard.

(13) Proceed west-southwest in a straight line 2.9 miles, crossing onto the Tassajara (2018 edition) map, to the intersection of Marsh Creek and Miwok Trail.

(14) Proceed northwesterly along Marsh Creek 2.4 miles, crossing onto the Antioch South map, to the creek's intersection with Deer Valley Road.

(15) Proceed northerly along Deer Valley Road 3.1 miles to its intersection with Chadbourne Road.

(16) Proceed northwest in a straight line 0.6 mile to the southwestern terminus of Tour Way.

(17) Proceed northwest in a straight line 3 miles to the intersection of Oil Canyon Trail, Stewartville Trail, and Chadbourne Road.

(18) Proceed northeasterly along the Stewartville Trail 1.9 miles to its intersection with the Contra Loma Trail.

(19) Proceed northwest in a straight line 2.5 miles to the intersection of Somersville Road and Donlan Boulevard.

(20) Proceed west-southwest in a straight line 2.5 miles, crossing onto the Clayton (2018 edition) map, to the intersection of Nortonville Road and Kirker Pass Road.

(21) Proceed southwesterly along Kirker Pass Road approximately 2.5 miles to its intersection with Hess Road.

(22) Proceed southeasterly in a straight line to the 3,849-foot summit of Mt. Diablo.

* * * * *

3. Amend § 9.157 by:

a. Removing the word “and” at the end of paragraph (b)(46);

b. Removing the “.” at the end of paragraph (b)(47) and adding a “;” in its place;

c. Adding paragraphs (b)(48) through (b)(58);

d. Revising paragraphs (c)(22) through (c)(24);

e. Redesignating paragraphs (c)(25) through (c)(44) as paragraphs (c)(40) through (c)(59); and

f. Adding new paragraphs (c)(25) through (c)(39).

The additions and revisions read as follows:

§ 9.157 San Francisco Bay.

* * * * *

(b) * * *

(48) Clayton, California, scale 1:24,000, 2018;

(49) Antioch South, California, scale 1:24,000, 2018;

(50) Tassajara, California, scale 1:24,000, 2018;

(51) Byron Hot Springs, California, scale 1:24,000, 2018;

(52) Clifton Court Forebay, California, scale 1:24,000, 2018;

(53) Woodward Island, California, scale 1:24,000; 2018;

(54) Bouldin Island, California, scale 1:24,000, 2018;

(55) Jersey Island, California, scale 1:24,000, 2018;

(56) Antioch North, California, scale 1:24,000, 2018;

(57) Honker Bay, California, scale 1:24,000, 2018; and

(58) Vine Hill, California, scale 1:24,000, 2018.

(c) * * *

(22) Then proceed in a northwesterly direction in a straight line to the intersection of Kirker Pass Road and Hess Road on the Clayton (2018 edition) map.

(23) Proceed northeasterly along Kirker Pass Road to its intersection with Nortonville Road.

(24) Proceed east-northeast in a straight line for 2.5 miles, crossing onto the Antioch South map, to the intersection of Somersville Road and Donlan Boulevard.

(25) Proceed southeasterly in a straight line for 2.5 miles to the intersection of the Stewartville Trail and the Contra Loma Trail.

(26) Proceed southwesterly along Stewartville Trail for 1.9 miles to the intersection of Oil Canyon Trail, Stewartville Trail, and Chadbourne Road.

(27) Proceed southeast in a straight line for 3 miles to the southern terminus of Tour Way.

(28) Proceed southeast in a straight line for 0.6 miles to the intersection of Chadbourne Road and Deer Valley Road.

(29) Proceed southerly along Deer Valley Road for 3.1 miles to its intersection with Marsh Creek.

(30) Proceed southeasterly along Marsh Creek for 2.4 miles, crossing onto the Tassajara (2018 edition) map, to the creek's intersection with Miwok Trail.

(31) Proceed north-northeast in a straight line for 2.9 miles, crossing onto the Byron Hot Springs (2018 edition) map, to the intersection of Kellogg Creek and Walnut Boulevard.

(32) Proceed southeast in a straight line for 4.3 miles to the intersection of Brushy Creek and Vasco Road.

(33) Proceed northeasterly along Brushy Creek, crossing onto the Clifton Court Forebay map, to the confluence of Brushy Creek with the western shore of Italian Slough to a point due west of the stream gauging station on Italian Slough, just west of Widdows Island and the shared Contra Costa-San Joaquin County line.

(34) Proceed due east to the stream gauging station, then proceed northeast for 5.5 miles, crossing onto the Woodward Island map, to the intersection of the Mokelumne Aqueduct and Orwood Road.

(35) Proceed north-northwest in a straight line for 4.1 miles to the intersection of Holland Tract Road and the 10-foot elevation contour.

(36) Proceed north for 1.9 miles along Holland Tract Road, crossing onto the Bouldin Island map, and continuing to the northernmost point of Holland Tract Road.

(37) Proceed southeast in a straight line for 2.7 miles, crossing onto the Jersey Island map, to the intersection of Wells Road and Sandmound Road.

(38) Proceed northwest in a straight line for 0.7 mile to the intersection of Bethel Island Road and the shoreline of Dutch Slough Road.

(39) Proceed westerly along the shoreline of Dutch Slough and Big Break, crossing onto the Antioch North map, and continuing westerly along the shoreline of New York Slough, crossing onto the Honker Bay (2018 edition) map, and continuing westerly along the shoreline and onto the Vine Hill (2018 edition) map to the intersection of the shoreline and Interstate 680 at the Benicia-Martinez Bridge.

* * * * *

4. Add § 9.291 to read as follows:

§ 9.291 Contra Costa.

(a) Name. The name of the viticultural area described in this section is “Contra Costa”. For purposes of part 4 of this chapter, “Contra Costa” is a term of viticultural significance.

(b) Approved maps. The 15 United States Geological Survey (USGS) 1:24,000 scale topographic maps used to determine the boundary of the Contra Costa viticultural area are titled:

(1) Antioch North, California, 2018;

(2) Antioch South, California, 2018;

(3) Benicia, California, 2018;

(4) Bouldin Island, California, 2018;

(5) Briones Valley, California, 2018;

(6) Byron Hot Springs, California, 2018;

(7) Clayton, California, 2018;

(8) Clifton Court Forebay, California, 2018;

(9) Jersey Island, California, 2018;

(10) Honker Bay, California, 2018;

(11) Tassajara, California, 2018;

(12) Vine Hill, California, 2018;

(13) Walnut Creek, California, 1995;

(14) Walnut Creek, California, 2018; and

(15) Woodward Island, California, 2018.

(c) Boundary. The Contra Costa viticultural area is located in Contra Costa County, California. The boundary of the Contra Costa viticultural area is as described as follows:

(1) The beginning point is on the Bouldin Island map at the northernmost point of Holland Tract Road. From the beginning point, proceed south 1.9 miles along Holland Tract Road, crossing onto the Woodward Island map, to the intersection of the road with the 10-foot elevation contour; then

(2) Proceed south-southeast in a straight line 4.1 miles to the intersection of Orwood Road and the Mokelumne Aqueduct; then

(3) Proceed south-southwest in a straight line 5.5 miles, crossing onto the Clifton Court Forebay map, to the stream gauging station on Italian Slough, just west of the Widdows Island and the shared Contra Costa-San Joaquin County line; then

(4) Proceed due west in a straight line to the western shore of Italian Slough, then proceed southwesterly along the western shore Italian Slough to its confluence with Brushy Creek; then

(5) Proceed westerly along Brushy Creek, crossing onto the Byron Hot Springs map and continuing southwesterly along the creek to its intersection with Vasco Road; then

(6) Proceed northwest in a straight line 4.3 miles to the intersection of Kellogg Creek and Walnut Boulevard; then

(7) Proceed west-southwest in a straight line 2.9 miles, crossing onto the Tassajara map, to the intersection of Marsh Creek and Miwok Trail; then

(8) Proceed northwesterly along Marsh Creek 2.4 miles, crossing onto the Antioch South map, to the creek's intersection with Deer Valley Road; then

(9) Proceed northerly along Deer Valley Road 3.1 miles to its intersection with Chadbourne Road; then

(10) Proceed northwest in a straight line 0.6 mile to the southwestern terminus of Tour Way; then

(11) Proceed northwest in a straight line 3 miles to the intersection of Oil Canyon Trail, Stewartville Trail, and Chadbourne Road; then

(12) Proceed northeasterly along Stewartville Trail 1.9 miles to its intersection with the Contra Loma Trail; then

(13) Proceed northwest in a straight line 2.5 miles to the intersection of Somersville Road and Donlan Boulevard; then

(14) Proceed west-southwest in a straight line 2.5 miles, crossing onto the Clayton map, to the intersection of Nortonville Road and Kirker Pass Road; then

(15) Proceed southwesterly along Kirker Pass Road 5 miles to its intersection with Alberta Way; then

(16) Proceed southwest in a straight line 1.5 miles to the intersection of Buckeye Trail, Blue Oak Trail, and Lime Ridge Trail; then

(17) Proceed south-southeast in a straight line 2.6 miles to the intersection of Arroyo Cerro Del and the 400-foot elevation contour just east of North Gate Road; then

(18) Proceed northwest in a straight line 2.5 miles, crossing onto the Walnut Creek map (2018 edition), to the intersection of Brodia Way and La Casa Via; then

(19) Proceed west-northwest in a straight line, crossing onto the Walnut Creek (1995 edition) map, and continue 3.1 miles on the 1995 edition map to the marked 781-foot peak south of the shared Lafayette-Walnut Creek corporate boundary line and north of an unnamed light-duty road known locally as Peaceful Lane; then

(20) Proceed northwest in a straight line 1.7 miles to the 833-foot peak marked “Hump 2”; then

(21) Proceed north-northwest 0.5 mile to the water tank (known locally as the Withers Reservoir) at the end of an unnamed light-duty road known locally as Kim Road, in the Cañada del Hambre y Las Bolsas Land Grant; then

(22) Proceed northwest in a straight line 3 miles, crossing onto the Briones Valley map, to the intersection of Alhambra Creek Road and Alhambra Valley Road; then

(23) Proceed northwest in a straight line 4.1 miles, crossing onto the Benicia map, to the intersection of Highway 4 and Cummings Skyway; then

(24) Proceed north-northwest in a straight line 1.8 miles to the intersection of Carquinez Scenic Drive and an unnamed road known locally as Canyon Lake Drive; then

(25) Proceed northeasterly in a straight line 0.6 mile to the marked post office in Port Costa; then

(26) Proceed southeast in a straight line 0.9 mile to the first unnamed road that crosses the railroad tracks and intersects with the shoreline at Little Bull Valley; then

(27) Proceed easterly along the shoreline approximately 38.3 miles, crossing over the Vine Hill, Honker Bay, and Antioch North maps and onto the Jersey Island map to Bethel Island Road; then

(28) Proceed southeast in a straight line 0.7 mile to the intersection of Wells Road and Sandmound Boulevard; then

(29) Proceed northeast in a straight line 2.7 miles, crossing onto the Bouldin Island map and returning to the beginning point.

Signed: March 8, 2024.
Mary G. Ryan,
Administrator.
Approved: March 8, 2024.
Aviva R. Aron-Dine,
Acting Assistant Secretary for Tax Policy.

[FR Doc. 2024-05476 Filed 3-14-24; 8:45 am]

BILLING CODE 4810-31-P